INTER-AMERICAN FOUNDATION

Sunshine Act; Meeting

MATTERS TO BE CONSIDERED: Draft Agenda for Board of Director' Meeting.

DATE: February 3, 2005.

TIME: 4:30 p.m.-5:30 p.m.

The meeting will be held at the Guatemala City Marriott Hotel, 7 avenida 15-45, zona 9, Guatemala, Guatemala.

The meeting will be closed as provided in 22 CFR part 1004.4(f) to discuss matters related to the search for candidates for the position of President of the Inter-American Foundation.

4:30 p.m. Call to order; Begin executive session.

5:30 p.m. Adjourn.

David Valenzuela,
President.

[FR Doc. 05-1381 Filed 1-21-05; 11:33 am]

BILLING CODE 7025-01-M